ENVIRONMENTAL PROTECTION AGENCY

[EPA-HQ-OPP-2005-0512; FRL-7749-6]

Pesticide Product; Registration Approval

AGENCY: Environmental Protection Agency (EPA).

ACTION: Notice.

SUMMARY: This notice announces Agency approval of applications to register the pesticide products, Dutch Trig® and Heads Up Plant Protectant, containing active ingredients not included in any previously registered product pursuant to the provisions of section 3(c)(5) of the Federal Insecticide, Fungicide, and Rodenticide Act (FIFRA),as amended.

FOR FURTHER INFORMATION CONTACT: The Regulatory Action Leader, Biopesticides and Pollution Prevention Division (7511C), listed in the following table:

File Symbol | Regulatory Action Leader | Mailing Address | Telephone number and E-mail Address
71927-1 | Sharlene R. Matten | USEPA/OPP/BPPD (7511C) 1200 Pennsylvania Ave., NW Washington D.C. 20460 | (703) 605-0514 matten.sharlene@epa.gov
81853-1 | Todd Peterson | USEPA/OPP/BPPD (7511C) 1200 Pennsylvania Ave., NW Washington D.C. 20460 | (703) 308-7224 peterson.todd@epa.gov

SUPPLEMENTARY INFORMATION:

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established a docket for this action under Docket identification number (ID) EPA-HQ-OPP-2005-0512; FRL-7749-6. Publicly available docket materials are available either electronically through www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. The request should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.

Agency Website. EDOCKET, EPA's electronic public docket and comment system was replaced on November 25, 2005, by an enhanced federal-wide electronic docket mangement and comment system located at http://www.regulations.gov. Follow the online instructions.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Did EPA Approve the Application?

The Agency approved the application after considering all required data on risks associated with the proposed use of Verticillium isolate WCS 850 and Saponins of Chenopodium quinoa, and information on social, economic, and environmental benefits to be derived from its use. Specifically, the Agency has considered the nature of the chemical and its pattern of use, application methods and rates, and level and extent of potential exposure. Based on these reviews, the Agency was able to make basic health and safety determinations which show that use of Verticillium isolate WCS 850 and Saponins of Chenopodium quinoa in accordance with widespread and commonly recognized practice, will not generally cause unreasonable adverse effects to the environment.

III. Approved Application

EPA issued a notice, published in the Federal Register of August 10, 2005 (70 FR 46507) (FRL-7724-3), which announced that ARCADIS Innovative Tree Services, 1114 Benfield Boulevard, Suite A, Millersville, MD 21108, had submitted an application to register the pesticide product, Dutch Trig®, a fungicide. (EPA File Symbol 71927-R), containing the active ingredient, Verticillium isolate WCS 850. This product is intended to protect elm trees from Dutch elm disease. The application was approved on October 19, 2005, as Dutch Trig® (EPA Registration Number 71927-1).

EPA issued another notice, published in the Federal Register of December 15, 2004 (69 FR 75063-75065) (FRL-7687-7), which announced that Heads Up Plant Protectants Inc., c/o Walter G. Talarek, PC, 1008 Riva Ridge Drive, Great Falls, VA, 22066, had submitted an application to register the pesticide product, Heads Up Plant Protectant, a fungicide. (EPA File Symbol 81853-R), containing Saponins of Chenopodium quinoa, with saponins at 49.65%. This product was not previously registered. The application was approved on September 16, 2005, as Heads Up Plant Protectant, (EPA Registration Number 81853-1).

List of Subjects

Environmental protection, Chemicals, Pesticides and pests.

Dated: December 15, 2005.
Phil Hutton,
Acting Director, Biopesticides and Pollution Prevention Division, Office of Pesticide Programs.

[FR Doc. 05-24467 Filed 12-27-05; 8:45 am]

BILLING CODE 6560-50-S